BROADCASTING BOARD OF GOVERNORS

Notice of Public Availability of the Broadcasting Board of Governors FY-2012 Service Contract Analysis and FY-2013 Service Contract Inventory

AGENCY: The Broadcasting Board of Governors.

ACTION: Notice.

SUMMARY: In accordance with Section 743 of Division C of the Consolidated Appropriations Act of 2010 (Pub. L. 111-117), the Broadcasting Board of Governors (BBG) is publishing this notice to instruct the public of the availability of its FY-2012 Service Contract Analysis and FY 2013 Service Contract Inventory. They are available on the BBG Internet site at http://www.bbg.gov/about-the-agency/research-reports/other/bbg-service-contract-inventory/. The service contract inventory provides information on service contract actions over $25,000 made in FY-2013. The information is organized by function to show how contracted resources are distributed throughout the Agency. The inventory has been developed in accordance with guidance on service contract inventories issued on November 5, 2010 and on December 19, 2011 by the Office of Management and Budget, Office of Federal Procurement Policy (OFPP).

FOR FURTHER INFORMATION CONTACT: James McGuirk, Chief, IBB Office of Contracts Policy and Procedures Branch via email at jmcguirk@bbg.gov or at telephone number (202) 382-7840.

Dated: June 25, 2014.
Chris Luer,
Chief, IBB Office of Administration.

[FR Doc. 2014-15161 Filed 6-26-14; 8:45 am]

BILLING CODE 8610-01-P